NATIONAL WOMEN'S BUSINESS COUNCIL

Quarterly Public Meeting

AGENCY: National Women's Business Council.

ACTION: Notice of open public meeting.

DATES: The meeting will be held on December 8th, 2015 from 2:00 p.m. to 4:00 p.m. EST.

ADDRESSES: The meeting will take place via teleconference.

SUPPLEMENTARY INFORMATION: Pursuant to section 10(a)(2) of the Federal Advisory Committee Act (5 U.S.C., Appendix 2), the U.S. Small Business Administration (SBA) announces the meeting of the National Women's Business Council. The National Women's Business Council is tasked with providing policy recommendations on issues of importance and impact to women entrepreneurs to the SBA, Congress, and the White House.

The program will include remarks from the Council Chair, Carla Harris; an update from each of the NWBC committees; and a discussion of the Council's FY2016 agenda. The Council will also preview its FY2015 Annual Report, and introduce the official recommendations—recommendations to improve the business climate for women based on Council's research and engagement from this past year—which will be submitted, as part of the Annual Report, to the SBA, Congress, and the White House later that month.

FOR FURTHER INFORMATION CONTACT: The meeting is open to the public, however advance notice of attendance is requested. To RSVP and confirm attendance, the general public should email info@nwbc.gov with subject line—“RSVP for 12/8 Public Meeting.” Anyone wishing to make a presentation to the NWBC at this meeting must either email their interest to info@nwbc.gov or call the main office number at 202-205-3850.

For more information, please visit the National Women's Business Council Web site at www.nwbc.gov.

Miguel J. L'Heureux,
SBA Committee Management Officer.

[FR Doc. 2015-28348 Filed 11-5-15; 8:45 am]

BILLING CODE P